FEDERAL ELECTION COMMISSION

Sunshine Act Meeting

AGENCY: Federal Election Commission.

DATES: Date & Time: Wednesday, November 16, 2011 at 3:45 p.m. and Thursday, November 17, 2011 at 10:30 a.m.

Place: 999 E Street NW., Washington, DC

Status: These meetings are closed to the public.

Items To Be Discussed:

Internal personnel rules and procedures or matters affecting a particular employee.

Investigatory records compiled for law enforcement purposes, or information which if written would be contained in such records.

Information the premature disclosure of which would be likely to have a considerable adverse effect on the implementation of a proposed Commission action.

FOR FURTHER INFORMATION CONTACT: Person to Contact for Information: Judith Ingram, Press Officer, Telephone: (202) 694-1220.

Shawn Woodhead Werth,
Secretary and Clerk of the Commission.

[FR Doc. 2011-30055 Filed 11-17-11; 11:15 am]

BILLING CODE 6715-01-P